DEPARTMENT OF HEALTH AND HUMAN SERVICES

Agency for Toxic Substances and Disease Registry

[ATSDR-195]

Public Health Assessments Completed

AGENCY: Agency for Toxic Substances and Disease Registry (ATSDR), Department of Health and Human Services (HHS).

ACTION: Notice.

SUMMARY: This notice announces those sites for which ATSDR has completed public health assessments during the period from April 2003 through June 2003. This list includes sites that are on or proposed for inclusion on the National Priorities List (NPL), and includes sites for which assessments were prepared in response to requests from the public.

FOR FURTHER INFORMATION CONTACT: Robert C. Williams, P.E., DEE, Assistant Surgeon General, Director, Division of Health Assessment and Consultation, Agency for Toxic Substances and Disease Registry, 1600 Clifton Road, NE, Mailstop E-32, Atlanta, Georgia 30333, telephone (404) 498-0007.

SUPPLEMENTARY INFORMATION: The most recent list of completed public health assessments was published in the Federal Register on August 8, 2003 [68 FR 47324]. This announcement is the responsibility of ATSDR under the regulation, Public Health Assessments and Health Effects Studies of Hazardous Substances Releases and Facilities [42 CFR part 90]. This rule sets forth ATSDR's procedures for the conduct of public health assessments under section 104(i) of the Comprehensive Environmental Response, Compensation, and Liability Act (CERCLA), as amended by the Superfund Amendments and Reauthorization Act (SARA) [42 U.S.C. 9604(i)].

Availability

The completed public health assessments and addenda are available for public inspection at the Division of Health Assessment and Consultation, Agency for Toxic Substances and Disease Registry, Building 1825, Century Blvd., Atlanta, Georgia (not a mailing address), between 8 a.m. and 4:30 p.m., Monday through Friday except legal holidays. The completed public health assessments are also available by mail through the U.S. Department of Commerce, National Technical Information Service (NTIS), 5285 Port Royal Road, Springfield, Virginia 22161, or by telephone at (703) 605-6000. NTIS charges for copies of public health assessments and addenda. The NTIS order numbers are listed in parentheses following the site names.

Public Health Assessments Completed or Issued

Between April 1, 2003 and June 30, 2003, public health assessments were issued for the sites listed below:

NPL Sites

California

Edwards Air Force Base (PB2003-104567)

Markleeville (PB2003-104568)

Illinois

Circle Smelting Corporation (PB2003-104617)

Hartford Residential Vapor Resources (a/k/a Hartford Residences) (PB2003-105779)

Maine

Callahan Mining Corporation (PB2003-104534)

Massachusetts

General Electric Site—Unkamet Brook (a/k/a GE-Housatonic River) (PB2003-104653)

General Electric Site—Lyman Street (a/k/a GE-Housatonic River) (PB2003-104654)

General Electric Site—Former Oxbows (a/k/a GE-Housatonic River) (PB2003-104655)

Sutton Brook Disposal Area (PB2003-104569)

New York

Cayuga County Groundwater Contamination (PB2003-105778)

Petitioned

Florida

Eglin Air Force Base (a/k/a USAF Eglin Air Force Base Armament Division) (PB2003-104185)

Dated: August 22, 2003.
Georgi Jones,
Director, Office of Policy and External Affairs, Agency for Toxic Substances and Disease Registry.

[FR Doc. 03-22002 Filed 8-27-03; 8:45 am]

BILLING CODE 4163-70-P